INTERNATIONAL TRADE COMMISSION

[Investigation No. 337-TA-1236 (Modification)]

Certain Polycrystalline Diamond Compacts and Articles Containing Same; Notice of Commission Determination To Institute a Modification Proceeding and To Grant a Joint Motion for Limited Service of Confidential Exhibit; Modification of the Limited Exclusion Order; Termination of Modification Proceeding

AGENCY: U.S. International Trade Commission.

ACTION: Notice.

SUMMARY: Notice is hereby given that the U.S. International Trade Commission (“Commission”) has determined to institute a modification proceeding based on a joint petition to rescind the limited exclusion order (“LEO”) as to respondent Shenzhen Haimingrun Superhard Materials Co., Ltd. (“Haimingrun”), and grant the joint motion for limited service of the confidential exhibit. The LEO is modified to remove reference to Haimingrun. The modification proceeding is terminated.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 29, 2020, based on a complaint filed by US Synthetic Corporation (“USS” or “Complainant”) of Orem, Utah. 85 FR 85661 (Dec. 29, 2020). The complaint alleged violations of section 337 of the Tariff Act of 1930, as amended, 19 U.S.C. 1337, based upon the importation into the United States, the sale for importation, and the sale within the United States after importation of certain polycrystalline diamond compacts and articles containing same by reason of infringement of certain claims of U.S. Patent No. 10,508,502 (“the '502 patent”); U.S. Patent No. 10,507,565 (“the '565 patent”); U.S. Patent No. 8,616,306 (“the '306 patent”); U.S. Patent No. 9,932,274 (“the '274 patent”); and U.S. Patent No. 9,315,881 (“the '881 patent”). Id. The notice of investigation named as respondents: SF Diamond Co., Ltd. of Henan, China, and SF Diamond USA, Inc. of Spring, Texas (together, “SF Diamond”); Element Six Abrasives Holdings Ltd. of London, United Kingdom, Element Six Global Innovation Centre of Oxfordshire, United Kingdom, Element Six GmbH of Burghaun, Germany, Element Six Limited of Springs, South Africa, Element Six Production (Pty) Limited of Shannon, Ireland, Element Six Hard Materials (Wuxi) Co. Limited of Meicun, China, Element Six Trading (Shanghai) Co. of Shanghai, China, Element Six Technologies US Corporation of Santa Clara, California, Element Six US Corporation of Spring, Texas, ServSix US of Orem, Utah, and Synergy Materials Technology Limited of Hong Kong, China (collectively, “Element Six”); Iljin Diamond Co., Ltd. of Seoul, Republic of Korea, Iljin Holdings Co., Ltd. of Seoul, Republic of Korea, Iljin USA Inc. of Houston, Texas, Iljin Europe GmbH of Eschborn, Germany, Iljin Japan Co., Ltd. of Tokyo, Japan, Iljin China Co., Ltd. of Shanghai, China (collectively, “Iljin”); Henan Jingrui New Material Technology Co., Ltd. (“Jingrui”) of Henan, China; Zhenzghou New Asia Superhard Materials Composite Co., Ltd. (“New Asia”) of Henan, China; International Diamond Services, Inc. (“IDS”) of Houston, Texas; CR Gems Superabrasives Co., Ltd. (“CR Gems”) of Shanghai, China; FIDC Beijing Fortune International Diamond (“FIDC”) of Beijing, China; Fujian Wanlong Superhard Material Technology Co., Ltd. (“Wanlong”) of Fujian, China; Zhuhai Juxin Technology of Guangdong, China; and Haimingrun of Guangdong, China. Id. at 85662. The Office of Unfair Import Investigations did not participate in the investigation. Id.

Respondents Element Six and FIDC were terminated from the investigation before the evidentiary hearing. See Order No. 6 (Feb. 1, 2021), unreviewed by Comm'n Notice (Feb. 16, 2021); Order No. 10 (Feb. 24, 2021), unreviewed by Comm'n Notice (Mar. 15, 2021); and Order No. 16 (Apr. 1, 2021), unreviewed by Comm'n Notice (Apr. 15, 2021). On February 8, 2021, Guangdong Juxin Materials Technology Co., Inc. (“Juxin”) was substituted in place of Zhuhai Juxin Technology. See Order No. 8 (Feb. 8, 2021), unreviewed by Comm'n Notice (Feb. 24, 2021). The '274 and '881 patents and certain other asserted patent claims were terminated from the investigation. See Order No. 26 (Jul. 14, 2021), unreviewed by Comm'n Notice (Aug. 11, 2021); Order No. 32 (Aug. 9, 2021), unreviewed by Comm'n Notice (Aug. 20, 2021); and Order No. 57 (Oct. 19, 2021), unreviewed by Comm'n Notice (Nov. 4, 2021).

An evidentiary hearing took place during the week of October 18-22, 2021. On March 3, 2022, the presiding administrative law judge (“ALJ”) issued his final initial determination (“ID”), finding no violation of section 337 by Iljin, SF Diamond, New Asia, IDS, Haimingrun, Juxin, CR Gems, Jingrui, and Wanlong (together, “Respondents”) as to the asserted claims of the '565, '502, and '306 patents.

On May 9, 2022, the Commission adopted the final ID's finding of no violation as to the '306 patent and reviewed certain findings of the final ID with respect to the '565 patent and the '502 patent. 87 FR 29375-377 (May 13, 2022). Id. The Commission also asked the parties to brief certain issues under review and requested the parties, interested government agencies, and other interested persons to brief issues of remedy, the public interest, and bonding. The parties filed timely initial submissions and reply submissions. The Commission did not receive comments from the public on any public interest issues raised by the ALJ's recommended relief.

On October 3, 2022, the Commission issued a final determination affirming with modifications the final ID's finding that all asserted claims are patent ineligible under 35 U.S.C. 101, that the asserted claims of the '565 patent are invalid as anticipated, and that Respondents failed to prove the asserted claims were not enabled under 35 U.S.C. 112. Having affirmed the final ID's findings that the asserted claims were patent ineligible and/or invalid, the Commission took no position on the economic prong of the domestic industry requirement. Accordingly, the Commission found no violation of section 337 as to the '565 and the '502 patents and terminated the investigation.¹

¹ Commissioner Schmidtlein dissented from the Majority's decision to affirm the final ID's section 101 findings.

USS timely appealed the Commission's patent ineligibility findings with respect to the '502 patent, but did not appeal the '565 patent, to the U.S. Court of Appeals for the Federal Circuit (“Federal Circuit” or “Court”). Respondents Iljin, SF Diamond, New Asia, IDS, Haimingrun, and Juxin (collectively, “Intervenors”) intervened in the appeal and argued in the alternative that the asserted claims of the '502 patent are not enabled under section 112.

On February 13, 2025, the Federal Circuit reversed the Commission's conclusion that the asserted claims of the '502 patent are patent ineligible under section 101 and affirmed the Commission's enablement conclusion. The Court remanded for further proceedings.

Intervenors filed a combined petition for panel rehearing and rehearing en banc, which the Court denied on May 20, 2025. Intervenors also filed a motion to stay the mandate, which was denied on May 29, 2025. The Court issued its formal mandate on May 29, 2025, returning jurisdiction to the Commission for further proceedings.

On June 5, 2025, the Commission requested written submissions from the parties to address the specific proceedings to be conducted on remand. USS and Respondents filed timely initial and response submissions.

On December 4, 2025, the Commission found Respondents Iljin, SF Diamond, New Asia, IDS, Haimingrun, Juxin, CR Gems, Jingrui, and Wanlong violated section 337 by importing into the United States, selling for importation, or selling in the United States after importation certain polycrystalline diamond compacts and articles containing the same that infringe one or more of the asserted claims 1, 2, 11, 15 and 21 of the '502 patent. The Commission affirmed the final ID's finding that the economic prong has been satisfied under prong (B) of section 337(a)(3) and takes no position on prongs (A) and (C) of section 337(a)(3). The Commission determined that the appropriate remedy was: (i) an LEO prohibiting Respondents from importing certain polycrystalline diamond compacts and articles containing the same that infringe one or more of the asserted claims 1, 2, 11, 15, and 21 of the '502 patent; and (ii) a cease and desist order against SF Diamond USA, Inc. The Commission also determined that the public interest factors did not preclude issuance of a remedy. The Commission further determined to set a bond in the amount of zero percent (0%) of the entered value of the infringing products imported during the period of Presidential review (19 U.S.C. 1337(j)).

On January 22, 2026, USS and Haimingrun ² (“Petitioners”) jointly petitioned under 19 U.S.C. 1337(k) and 19 CFR 210.76(a)(1) to rescind the LEO as to Haimingrun's infringing products. The joint petition further requests that service of the unredacted version of the settlement agreement between USS and Haimingrun be limited to USS and Haimingrun. The joint petition states that the requested rescission of the LEO as to Haimingrun is warranted because “the Settlement Agreement provides [Haimingrun] with a license to the patents underlying the LEO, covering certain polycrystalline diamond compacts and articles containing same,” and thus the “Settlement Agreement fully resolves the disputes before the Commission and authorizes conduct previously prohibited under the LEO.” Jt. Pet. at 1. The joint petition argues that the settlement agreement constitutes a changed condition of fact and law justifying rescission of the LEO as to Haimingrun. Id. at 2. In accordance with Commission Rule 210.76(a)(3), the joint petition includes confidential and public versions of the settlement agreement and states that “[t]here are no other agreements, written or oral, express or implied between US Synthetic and [Haimingrun] concerning the subject matter of the Investigation.” Id. at 1; 19 CFR 210.76(a)(3).

² In November 2022, respondent Shenzhen Haimingrun Superhard Materials Co., Ltd. changed its English name to Haimingrun Co., Ltd. Haimingrun Co., Ltd. jointly filed the petition and entered into the settlement agreement with USS.

The Commission has determined that the joint petition satisfies the requirements of Commission Rule 210.76(a)(3), 19 CFR 210.76(a)(3). The Commission has further determined that the conditions justifying the LEO against Haimingrun no longer exist, and, therefore, granting the joint petition is warranted under section 337(k) (19 U.S.C. 1337(k)), and Commission Rule 210.76(a)(3). The Commission has thus determined to institute a modification proceeding and to modify the LEO to remove Haimingrun based on the settlement agreement. The Commission also finds that Petitioners have shown the requisite good cause under Commission Rule 210.76(a)(3) to grant their motion for limited service of confidential Exhibit A. The Commission issues a modified LEO and an order herewith setting forth its determinations.

The modification proceeding is terminated.

The Commission vote for this determination took place on February 13, 2026.

The authority for the Commission's determination is contained in section 337 of the Tariff Act of 1930, as amended, 19 U.S.C. 1337, and in Part 210 of the Commission's Rules of Practice and Procedure, 19 CFR part 210.

Issued: February 13, 2026.
Lisa Barton,
Secretary to the Commission.

[FR Doc. 2026-03229 Filed 2-18-26; 8:45 am]

BILLING CODE 7020-02-P